DEPARTMENT OF DEFENSE

Defense Logistics Agency

Notice of Availability of a Final Environmental Impact Statement

AGENCY: Defense National Stockpile Center, DoD.

ACTION: Notice of availability of a Final Mercury Management Environmental Impact Statement.

SUMMARY: The Defense Logistics Agency (DLA) announces the availability of its Final Mercury Management Environmental Impact Statement (Final EIS). This announcement is pursuant to the Council on Environmental Quality's regulations (40 CFR parts 1500-1508) and DLA's regulation (DLAR 1000.22) that implement the National Environmental Policy Act (NEPA).

The Defense National Stockpile Center (DNSC) inventory of elemental mercury (approximately 4,436 metric tons) is currently stored in enclosed warehouses at four sites in the United States: Near New Haven, Indiana; in Oak Ridge, Tennessee; in Hillsborough, New Jersey; and near Warren, Ohio. Because the mercury has been declared in excess of national defense needs, DNSC must decide on a strategy for the long-term management of this excess commodity. The Final EIS analyzes in detail three alternatives for managing the National Defense Stockpile inventory of excess mercury: (1) Consolidated storage of the mercury stockpile at one site, (2) no-action, i.e., leave the mercury at the existing storage locations, and (3) sale of the stockpile. DNSC's preferred alternative is consolidated storage. The Final EIS evaluates a range of locations that would be environmentally acceptable consolidation sites.

The Final EIS reflects changes made in response to comments received during the public comment period on the Draft EIS. No sooner than 30 days after the United States Environmental Protection Agency's Notice of Availability for DNSC's Final Mercury Management EIS is published in the Federal Register, the DLA intends to issue a Record of Decision (ROD) which will announce the selection of the alternative that will be implemented. DLA will publish its ROD in the Federal Register.

ADDRESSES: Bound copies of the Final EIS (about 1000 pages) and Executive Summary (about 20 pages) are available by writing to: Attention: Project Manager, Mercury Management EIS; DNSC-E; Defense National Stockpile Center, 8725 John J. Kingman Road, Suite 3229, Fort Belvoir, VA 22060-6223, or calling toll free at 1-888-306-6682. Electronic versions of the Executive Summary and the Final EIS are found on the Internet at http://www.mercuryeis.com. Copies of the Final EIS may also be reviewed at the information repository locations listed in the Supplementary Information section.

FOR FURTHER INFORMATION CONTACT: Requests for information can be made by: Leaving a voice message at 1-888-306-6682; faxing a message to 1-888-306-8818; e-mailing a request to information@mercuryeis.com; or accessing the Mercury Management EIS Web site at http://www.mercuryeis.com.

SUPPLEMENTARY INFORMATION: The DNSC is responsible for the disposition of stockpiled materials declared in excess of national defense needs. The United States Congress has determined that the U.S. Department of Defense no longer needs to maintain a stockpile of commodity grade mercury because of the increased use of mercury substitutes and because of increases in the nation's secondary mercury production through recovery and recycling. The DNSC excess mercury was offered for sale in open competitions until 1994 when concerns over mercury accumulation in the environment prompted DNSC to suspend sales. The DNSC inventory of mercury (approximately 4,436 metric tons) is stored in enclosed warehouses at four sites in the United States: New Haven, Indiana (557 metric tons); Oak Ridge, Tennessee (699 metric tons); Hillsborough, New Jersey (2,617 metric tons); and Warren, Ohio (564 metric tons).

As custodian of the mercury, DNSC must decide on a strategy for long-term management of this material. In compliance with NEPA and DLA Regulation 1000.22, “Environmental Considerations in DLA Actions in the United States,” DNSC prepared the EIS to evaluate the environmental impacts of a range of reasonable alternatives for long-term management (i.e., 40 years) of the excess mercury. The alternatives are: (1) No action, i.e., maintaining storage at the four existing sites; (2) consolidation and storage at one of three current DNSC mercury storage sites or at another location; and (3) sale of the mercury inventory.. Three other candidate locations (i.e., Hawthorne Army Depot, Hawthorne, Nevada; PEZ Lake Development, Romulus, New York; and Utah Industrial Depot, Tooele, Utah) were evaluated as possible consolidation sites and to analyze the environmental acceptability of a wider range of sites. The PEZ Lake Development site is included in the EIS to broaden the range of environmental and socioeconomic settings analyzed; however, the site is no longer under consideration as a consolidated storage site. The company which manages the site, withdrew it from consideration based on business development plans.

The Final EIS describes the potential environmental, human health, and socioeconomic impacts of these alternatives, together with cost considerations. Several treatment technologies were considered as possible alternatives for mercury management. Based on the immaturity of bulk mercury treatment technologies and the lack of an EPA-approved path forward, bulk treatment and disposal of elemental mercury is not considered viable at this time and is not evaluated in detail in the Final EIS.

The DLA's preferred alternative is consolidated storage at one location. Managing the mercury at one site rather than at multiple sites would simplify storage operations and result in economies of scale (fewer resources would be required to maintain the mercury inventory). Consolidating the excess DNSC mercury inventory at one site does not result in significant environmental impacts at any site analyzed and would slightly improve environmental conditions at the sites where the mercury would be removed. The preferred alternative is also compatible with DNSC's long-term depot closure plans. The EIS evaluates a range of locations that would be acceptable consolidation sites. If a site other than one of those analyzed in the Final EIS is selected, additional environmental documentation would be prepared as needed.

The Department of Energy (DOE) and EPA are Cooperating Agencies in the preparation of this Final EIS. DOE is recognized because of their special expertise and because some of the DNSC excess mercury is stored at its Y-12 National Security Complex in Oak Ridge, Tennessee. EPA is recognized because of its special expertise in the areas of mercury fate and effects in the environment, mercury stabilization and disposal technologies, and the regulation of hazardous material.

The public comment period for the Draft EIS began with the publication of the EPA Notice of Availability in the Federal Register on April 11, 2003, and continued until July 18, 2003. In response to public requests to extend the comment period, the deadline for submittal of comments was extended informally until September 2, 2003. The Draft EIS or the Executive Summary was distributed to more than 830 individuals and organizations.

During the comment period, DNSC held seven meetings to receive comments on the Draft EIS. The meetings were held in the communities that could be affected by the proposed actions, as well as in Washington, DC. Approximately 230 people attended the public meetings. The transcript of each meeting is available at a nearby information repository. Locations of these repositories are listed below:

Allen County Public Library, 435 Ann Street, New Haven, Indiana 46774.

Bridgewater Branch Library, North Bridge Street and Vogt Drive, Bridgewater, New Jersey 08807.

Fairfax County Public Library, 12000 Government Center Parkway, Suite 324, Fairfax, Virginia 22035.

Ford Memorial Library, 7169 North Main Street, Ovid, New York 14521.

Hillsborough Public Library, 379 South Branch Road, Hillsborough, New Jersey 08844.

Martin Luther King Jr. Library, 901 G Street, NW., Washington, DC 20001.

Mineral County Public Library, P.O. Box 1390, Hawthorne, Nevada 89415.

Oak Ridge Public Library, 1401 Oak Ridge Turnpike, Oak Ridge, Tennessee 37830.

Raritan Valley Community College, Evelyn S. Field Library, North Branch, Route 28 and Lamington Road, Somerville, New Jersey 08876.

Seneca Army Depot, 5786 State Route 96, Building 123, Romulus, New York 14541.

Somerville Public Library, 35 West End Avenue, Somerville, New Jersey 08876.

Tooele City Public Library, 128 West Vine Street, Tooele, Utah 84074.

Warren-Trumbull County Public Library, 444 Mahoning Avenue, NW., Warren, Ohio 44483.

Waterloo Library and Historical Society, 31 East Williams Street, Waterloo, New York 13165.

West End Branch Library, 1101 24th and L Street, NW., Washington, DC 20037.

The DNSC received 295 comment documents (i.e., letters, e-mails, faxes, voice messages, comment forms, and meeting transcripts) containing 633 comments. Volume II of the Final EIS presents the comment documents, identifies the specific comment(s) from each, and provides DNSC's responses. The majority of the comments received on the Draft EIS are related to the Consolidated Storage Alternative, impacts on human health and safety, and environmental and economic impacts.

Input from the public meetings along with comments received by other means (i.e., mail, phone, fax, e-mail, and Web site), were used by DNSC in preparing the Final EIS. DNSC considered all comments received.

A copy of the Final EIS is available for public review at the information repositories listed in this notice. No sooner than 30 days after the EPA's Notice of Availability for DNSC's Final Mercury Management EIS is published in the Federal Register, the DLA intends to issue a ROD which will announce the selection of the alternative that will be implemented. DLA will publish its ROD in the Federal Register.

Issued at Fort Belvoir, Virginia, on this 08 day of March, 2004.
Cornel A. Holder,
Administrator, Defense National Stockpile Center, Defense Logistics Agency.

[FR Doc. 04-6435 Filed 3-25-04; 8:45 am]

BILLING CODE 3620-01-P